INTERNATIONAL TRADE COMMISSION

[Investigation Nos. 731-TA-1140-1142 (Review)]

Uncovered Innerspring Units from China, South Africa, and Vietnam

Determinations

On the basis of the record ¹ developed in the subject five-year reviews, the United States International Trade Commission (Commission) determines,² pursuant to section 751(c) of the Tariff Act of 1930 (19 U.S.C. 1675(c)), that revocation of the antidumping duty orders on uncovered innerspring units from China, South Africa, and Vietnam would be likely to lead to continuation or recurrence of material injury to an industry in the United States within a reasonably foreseeable time.

¹ The record is defined in sec. 207.2(f) of the Commission's Rules of Practice and Procedure (19 CFR 207.2(f)).

² Commissioner Shara L. Aranoff did not participate in these reviews.

Background

The Commission instituted these reviews on November 1, 2013 (78 FR 65711) and determined on February 4, 2014 that it would conduct expedited reviews (79 FR 11466, February 28, 2014).

The Commission completed and filed its determinations in these reviews on April 7, 2014.³ The views of the Commission are contained in USITC Publication 4459 (April 2014), entitled Uncovered Innerspring Units from China, South Africa, and Vietnam: Investigation Nos. 731-TA-1140-1142 (Review).

³ The Commission has the authority to toll statutory deadlines during a period when the government is closed. Because the Commission was closed on December 10, 2013, January 21, 2014, February 13, 2014, March 10, 2014, and March 17, 2014 due to inclement weather in Washington, DC, the statutory deadlines reflect the tolling of deadlines by five days.

By order of the Commission.
Issued: April 8, 2014.
Lisa R. Barton,
Acting Secretary to the Commission.

[FR Doc. 2014-08161 Filed 4-10-14; 8:45 am]

BILLING CODE 7020-02-P